DEPARTMENT OF TRANSPORTATION

Office of the Secretary

[Docket No. DOT-OST-2016-0206]

Advisory Committee on Transportation Equity

AGENCY: Office of the Secretary, U.S. Department of Transportation (DOT).

ACTION: Notice of establishment of Advisory Committee on Transportation Equity (ACTE).

SUMMARY: Pursuant to Section 9(a)(2) of the Federal Advisory Committee Act (FACA), and in accordance with Title 41, Code of Federal Regulations, Section 102-3.65, and following consultation with the Committee Management Secretariat, General Services Administration, notice is hereby given that the ACTE will be established for a 2-year period.

The Committee will provide advice and recommendations to the Secretary of Transportation on comprehensive, interdisciplinary issues related to transportation equity from a variety of stakeholders involved in transportation planning, design, research, policy, and advocacy. Specifically, the ACTE will inform the Department about efforts to (1) institutionalize the U.S. DOT Opportunity principles into Agency programs, policies, regulations, and activities; (2) strengthen and establish partnerships with other governmental agencies, including other Federal agencies and State, tribal, or local governments, regarding opportunity issues; (3) promote economic and related forms of opportunity by empowering communities to have a meaningful voice in local and regional transportation decisions; and (4) sharpen enforcement tools to ensure compliance with nondiscrimination programs, policies, regulations, and activities.

The U.S. DOT Opportunity principles are to:

(1) Support transportation projects that connect people to economic and related forms of opportunity and revitalize communities;

(2) Ensure that current and future transportation projects connect and strengthen communities; and

(3) Develop transportation facilities that meaningfully reflect and incorporate the input of all the people and communities they touch.

Additionally, the establishment of the ACTE is necessary for the Department to carry out its mission and in the public interest. The Committee will operate in accordance with the provisions of the Federal Advisory Committee Act and the rules and regulations issued in implementation of that Act.

FOR FURTHER INFORMATION CONTACT: Barbara McCann, U.S. Department of Transportation, Office of the Secretary, Office of Policy, Room W84-310, 1200 New Jersey Avenue SE., Washington, DC 20590; phone (202) 366-8016; email: Equity@dot.gov.

SUPPLEMENTARY INFORMATION: The Secretary of Transportation will appoint up to 15 voting members to the ACTE. Members will be selected with a view toward achieving varied perspectives on transportation equity, including (1) academia; (2) community groups; (3) industry/business; (4) non-government organizations; (5) State and local governments; and (6) federally recognized tribal governments and indigenous groups. The Secretary of Transportation will seek a membership that is fairly balanced in terms of points of view of the affected interests.

The Advisory Committee on Transportation Equity's efforts will include evaluation of the Department's work in using the principles above to achieve Opportunity objectives when carrying out its strategic, research, technological, regulatory, community engagement, and economic policy activities related to transportation and opportunity.

The Committee shall act solely in an advisory capacity and will not exercise program management responsibilities. Decisions directly affecting implementation of transportation policy will remain with the Secretary.

Members of the Advisory Committee on Transportation Equity may be selected to serve either as representative members or as members appointed solely for their expertise. The latter will serve as special Government employees and will be subject to certain ethical restrictions, and such members will be required to submit certain information in connection with the appointment process.

Committee members may serve for a term of 2 years or less and may be reappointed for successive terms, with no more than 2 successive terms. The Chair and Vice Chair of the Committee will be appointed by the Under Secretary of Transportation for Policy from among the selected members, and the Committee is expected to meet approximately two times per year or as necessary. Subcommittees may be formed to address specific transportation equity issues.

The Committee will make recommendations that provide timely, comprehensive, inclusive advice to the Secretary on transportation opportunity public policy issues that advance the principles of providing opportunity and access to everyone.

Issued in Washington, DC, on October 27, 2016.
Blair C. Anderson,
Under Secretary of Transportation for Policy.

[FR Doc. 2016-26674 Filed 11-3-16; 8:45 am]

BILLING CODE 4910-9X-P